ENVIRONMENTAL PROTECTION AGENCY

[FRL-9786-9; EPA-HQ-OEI-2012-0481]

Creation of a New System of Records Notice: Telework Application and Agreement Records

AGENCY: Environmental Protection Agency (EPA).

ACTION: Notice.

SUMMARY: The Environmental Protection Agency's (EPA) Office of Administration and Resources Management (OARM), Office of Human Resources (OHR) is giving notice that it proposes to create a new system of records pursuant to the provisions of the Privacy Act of 1974 (5 U.S.C. 552a). This system of records will contain information used by the Agency to implement and manage its telework program. The records will also be used to prepare and/or conduct telework program evaluations and audits.

DATES: Persons wishing to comment on this system of records notice must do so by April 15, 2013.

ADDRESSES: Submit your comments, identified by Docket ID No. EPA-HQ-OEI-2012-0481, by one of the following methods:

• www.regulations.gov: Follow the online instructions for submitting comments.

• Email: oei.docket@.epa.gov.

• Fax: 202-566-1752.

• Mail: OEI Docket, Environmental Protection Agency, Mail Code: 2822T, 1200 Pennsylvania Ave. NW., Washington, DC 20460.

• Hand Delivery: OEI Docket, EPA/DC, EPA West Building, Room 3334, 1301 Constitution Ave. NW, Washington, DC. Such deliveries are only accepted during the Docket's normal hours of operation, and special arrangements should be made for deliveries of boxed information.

Instructions: Direct your comments to Docket ID No. EPA-HQ-OEI-2012-0481. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your email address will be automatically captured and included as part of the comment that is placed in the public docket and made available on the Internet. If you submit an electronic comment, EPA recommends that you include your name and other contact information in the body of your comment and with any disk or CD-ROM you submit If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at OEI Docket, EPA/DC, EPA West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Cindee Smith, Office of Human Resources, (202) 564-0788.

SUPPLEMENTARY INFORMATION:

General Information

The U.S. Environmental Protection Agency proposes to create a new system of records under the Privacy Act to track all records used by supervisors, managers and program and regional Telework Coordinators to assist the EPA in implementing and managing its Telework Program. EPA's Telework Program (or Flexiplace) provides employees the opportunity to work at a location other than their regularly assigned work site or official duty station. Alternate work sites include personal residences and satellite locations. Flexiplace is a work arrangement that is discretionary on the part of management and voluntary on the part of the employee. The work agreement each employee must sign asks for personally identifiable information. The agreement covers the terms, conditions of participation in the Flexiplace Program, and establishes that the employee and his or her supervisor will adhere to the Program's policies.

The Office of Human Resources in the Office of Administration and Resources Management executes the duties of the Agency Telework Coordinator and is responsible for overseeing the EPA Telework Program and ensuring that reporting requirements are fulfilled. The program office and regional Telework Coordinators are responsible for ensuring that all participants are aware of their required responsibilities, maintaining telework applications and providing data and documented approvals and disapprovals to the Office of Human Resources to allow the program to be monitored.

EPA-61

System Name:

Telework Application and Agreement Records.

System Location:

All EPA Headquarters Offices, Regions, Laboratories or other EPA facilities.

Categories of Individuals Covered by the System:

Employees who voluntarily apply to participate in EPA's Telework Program.

Categories of Records in the System:

a. Information provided on the Telework Application Form and Work Agreement forms (e.g., employee's name, grade, job title and series, office location, office email address, office telephone number, alternate work location address, alternate work location facsimile, alternate work location and telephone number).

b. Safety Checklist, Annual Re-certification Form and Discontinuation Form.

c. Description of alternate work location equipment and software.

d. Medical documentation (required for medical telework, only).

Authority for Maintenance of the System (includes any revisions or amendments):

The Telework Enhancement Act of 2010 (December 9, 2010); Public Law 11 1-292.

Purpose(s):

To manage telework applications and conduct telework program evaluations and audits.

Routine Uses of Records Maintained in the System, Including Categories of Users, and the Purpose(s):

Home address, home safety checklists and home safety reports may be disclosed to the Department of Labor when an employee is injured while working at home. Raw data such as the number of employees participating in telework by job title, series and grade may be disclosed to Headquarters and local bargaining unions to provide raw data on the number of bargaining employees covered under the applicable negotiated collective bargaining agreement(s).

General routine uses A, E, F, G, H, I, J, K, and L apply to this system.

Policies and Practices for Storing, Retrieving, Accessing, Retaining, and Disposing of Records in the System:

• Storage: Paper files and electronic databases.

• Retrievability: Primarily by the applicant's name.

• Safeguards: Computer records are maintained in a secure, password protected computer system. Paper records are maintained in lockable file cabinets. All records will have appropriate administrative, technical and physical safeguards to ensure their security and confidentiality. All records will be maintained in secure, access-controlled areas of buildings. Medical telework records must be protected in accordance with Agency policies and procedures for accessing and safeguarding sensitive personally identifiable information.

• Retention and Disposal: Records stored in this system are subject to EPA schedule 039.

• System Manager(s) and Address: The system of records is maintained by agency supervisors whose employees have applied for telework and by program and regional office telework coordinators.

Notice Procedures: Requests to determine whether this system of records contains a record pertaining to you must be sent to the Agency's Freedom of Information Office. The address is U.S. Environmental Protection Agency; 1200 Pennsylvania Ave. NW., Room 6416 West; Washington, DC 20460; (202) 566-1667; Email: (hq.foia@epa.gov); Attn: Privacy Act Officer.

Records Access Procedure:

Individuals seeking access to their own personal information in this system of records will be required to provide adequate identification (e.g., driver's license, military identification card, employee badge or identification card and, if necessary, proof of authority). Additional identity verification procedures may be required as warranted. Requests must meet the requirements of EPA regulations at 40 CFR part 16.

Contesting Procedure:

Requests for correction or amendment must identify the record to be changed and the corrective action sought. Complete EPA Privacy Act procedures are set out in 40 CFR part 16.

Record Source Categories:

The sources of data for records stored in this system are EPA employees, supervisors and all telework coordinators.

System Exempted From Certain Provisions of the Privacy Act:

None.

Dated: February 20, 2013.
Malcolm D. Jackson,
Assistant Administrator, and Chief Information Officer.

[FR Doc. 2013-04927 Filed 3-1-13; 8:45 am]

BILLING CODE 6560-50-P